DEPARTMENT OF ENERGY

Federal Energy Regulatory Commission

[Docket No. GT00-36-001]

Texas Eastern Transmission Corporation; Notice of Errata Filing

September 19, 2000.

Take notice that on September 13, 2000, Texas Eastern Transmission Corporation (Texas Eastern) tendered for filing as part of its FERC Gas Tariff, Sixth Revised Volume No. 1, a correction to its September 1, 2000 filing of its report of recalculated Operational Segment Capacity Entitlements to become effective November 1, 2000.

Texas Eastern states that its September 1 Filing failed to reflect the operational segment capacity entitlements of one of its customers. Accordingly, Appendices A and A1 have been revised to include the operational segment capacity entitlements for Proliance Energy LLC.

Texas Eastern states that copies of the filing were served on all affected customers of Texas Eastern and interested state commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-24516 Filed 9-22-00; 8:45 am]

BILLING CODE 6717-01-M